DEPARTMENT OF ENERGY

Federal Energy Regulatory Commission

[Project No. 382-108]

Southern California Edison Company; Notice of Intent To Prepare an Environmental Assessment

On May 1 and 2, 2023, as supplemented on May 16, 2023, Southern California Edison Company (SCE or licensee) filed an application to surrender its license and decommission the Borel Hydroelectric Project No. 382. The project is located on the Kern River, in the City of Bodfish in Kern County, California. The project occupies Federal lands administered by the U.S. Forest Service and the U.S. Army Corps of Engineers.

SCE is requesting to surrender its license for the Borel Hydroelectric Project and the disposition of all Borel Project facilities (i.e., removal, modification, or abandonment in place). SCE is surrendering the Borel Project license because the U.S. Army Corps of Engineers (Corps) implemented a safety modification to its Lake Isabella Auxiliary Dam for which the Corps condemned land associated with the Borel Project and sealed off the existing section of conduit through the Auxiliary Dam by filling it with concrete and abandoning the conduit in place. This action rendered the Borel Project nonfunctional and therefore SCE is seeking to surrender the Project license.

A Notice of Application Accepted for Filing and Soliciting Comments, Motions to Intervene, and Protest was issued on June 13, 2023.

This notice identifies Commission staff's intention to prepare an environmental assessment (EA) for the proposed action. The planned schedule for the completion of the EA is July 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued July 2024. Agencies wishing to cooperate, or further discuss the benefits, responsibilities, and obligations of the cooperating agency role, should contact staff listed at the bottom of this notice by February 20, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Rebecca Martin at 202-502-6012 or Rebecca.martin@ferc.gov.

Dated: January 30, 2024.
Debbie-Anne A. Reese,
Acting Secretary.

[FR Doc. 2024-02194 Filed 2-2-24; 8:45 am]

BILLING CODE 6717-01-P